DEPARTMENT OF COMMERCE

National Oceanic and Atmospheric Administration

50 CFR Part 226

RIN 0648-XD415

Endangered and Threatened Species; Designation of Critical Habitat for Steller Sea Lions; Public Meetings

AGENCY: National Marine Fisheries Service (NMFS), National Oceanic and Atmospheric Administration (NOAA), Commerce.

ACTION: Amended notice of public meeting; notice of second public meeting; request for information.

SUMMARY: Notice is hereby given of a change in a public meeting that NMFS will host to elicit scientific information related to the designation of Steller sea lion critical habitat under the Endangered Species Act (ESA). To accommodate participation by individuals who cannot attend the meeting in person, NMFS will make the meeting available via a webinar. NMFS will also host a second public meeting to elicit scientific information related to the designation of Steller sea lion critical habitat and will accept written submissions of relevant scientific information.

DATES: The first meeting will be held September 22, 2014, from 9 a.m.-5 p.m. Pacific Daylight Time. Statements of interest and abstracts were due by 5 p.m. Alaska Daylight Time on August 29, 2014 to be considered for presentation during this meeting. The second meeting will be held October 8, 2014, from 5:30 p.m.-8:30 p.m. Alaska Daylight Time. Statements of interest and abstracts for the second meeting must be received by 5 p.m. Alaska Daylight Time on September 22, 2014 to be considered for presentation during the second meeting. Written scientific material relevant to Steller sea lion critical habitat must be received by 8:30 p.m. Alaska Daylight Time on October 8, 2014.

ADDRESSES: You may submit statements of interest in making a presentation and abstracts, and/or relevant scientific information NMFS should consider, identified by NOAA-NMFS-2014-0096, by either of the following methods:

Electronic Submissions: Submit all electronic statements of interest in making a presentation and abstracts, and all electronic scientific material relevant to Steller sea lion critical habitat, via the Federal eRulemaking Portal. Go to www.regulations.gov/#!docketDetail;D=NOAA-NMFS-2014-0096, click the “Comment Now!” icon, complete the required fields, and enter or attach your statement of interest in making a presentation and your abstract, your relevant scientific information, or both. If you are interested in making a presentation, please indicate whether you would like to present at the meeting on September 22, 2014 or the meeting on October 8, 2014.

Mail: Submit written statements of interest in making a presentation and abstracts, and any written scientific information relevant to Steller sea lion critical habitat, to Jon Kurland, Assistant Regional Administrator for Protected Resources, Alaska Region, NMFS, Attn: Ellen Sebastian, P.O. Box 21668, Juneau, AK 99802-1668. Statements of interest in making a presentation, abstracts, and scientific information sent by any other method, to any other address or individual, or received after the end of the submission period, may not be considered by NMFS. All materials received are part of the public record and will generally be posted for public viewing on www.regulations.gov.

FOR FURTHER INFORMATION CONTACT: Dr. Lisa Rotterman, 907-271-1692 (Lisa.Rotterman@noaa.gov); or for webinar-specific assistance, contact Frank Kikuchi, 206-526-4097 (Frank.Kikuchi@noaa.gov).

SUPPLEMENTARY INFORMATION:

Background

NMFS published notice of the September 22, 2014 meeting in the Federal Register on August 8, 2014 (79 FR 46392) and solicited statements of interest in making a presentation and abstracts. Subsequently NMFS received inquiries from members of the public about whether NMFS would provide alternative ways to participate. NMFS is therefore amending the original notice to accommodate participation by individuals who cannot attend the first meeting in person and to provide notice that we will hold a second meeting to elicit scientific input relevant to Steller sea lion critical habitat. NMFS will make the first meeting available via a webinar and will accept written submissions of relevant scientific information.

The purpose of these two meetings is to elicit scientific information related to the designation of Steller sea lion critical habitat under the ESA. NMFS will provide future opportunity to comment on the essential features and geographic limits of critical habitat when NMFS issues a proposed rule.

The first meeting will be held on September 22, 2014 at the NMFS Alaska Fisheries Science Center, 7600 Sand Point Way NE., Building 4, Seattle, WA 98115, in the Jim Traynor Conference Room. NMFS will make this meeting available by webinar. Pertinent information about this webinar is as follows:

Title: WebEx-NMML,”External Scientific Info Relevant to Steller Sea Lion Critical Habitat”

Date: Monday, September 22, 2014

Time: 9 a.m., Pacific Daylight Time (San Francisco, GMT-07:00)

Meeting Number: 574 272 234

Meeting Password: StellerCH123

1. Go to: https://akfsc.webex.com/akfsc/j.php?MTID=m87ec74d026591a898b03008b80e39ac8

2. If requested, enter your name and email address.

3. If a password is required, enter the meeting password: StellerCH123

4. Click “Join”.

5. Follow the instructions that appear on your screen.

To view in other time zones or languages, please click the link: https://akfsc.webex.com/akfsc/j.php?MTID=m09ae534ff16a15a7c51cdca7d0769197

To join the audio conference only:

1. Call the teleconference number: 1-877-953-3919

Participant Passcode: 5944500

For webinar assistance:

1. Go to https://akfsc.webex.com/akfsc/mc.

2. On the left navigation bar, click “Support”.

The second meeting will be held on October 8, 2014 at the Hilton Anchorage, 500 W. 3rd Ave., Anchorage, AK, 99501.

Arrangements for Foreign Nationals

Individuals wishing to attend the meeting on September 22, 2014 who are not citizens of the United States must make prior arrangements to be permitted entrance to the Alaska Fisheries Science Center (see ADDRESSES). Requests for such arrangements should be directed to Jennifer Ferdinand by email at jennifer.ferdinand@noaa.gov by September 8, 2014.

Special Accommodations

These meetings are physically accessible to people with disabilities. Requests for sign language interpretation or other auxiliary aids for the meeting on September 22, 2014 should be directed to Jennifer Ferdinand, (206) 526-4076, at least 5 working days prior to the meeting date. Requests for sign language interpretation or other auxiliary aids for the meeting on October 8, 2014 should be directed to Dr. Lisa Rotterman, (907) 271-1692, at least 5 working days prior to the meeting date.

Dated: September 4, 2014.
Perry F. Gayaldo,
Deputy Director, Office of Protected Resources, National Marine Fisheries Service.

[FR Doc. 2014-21416 Filed 9-8-14; 8:45 am]

BILLING CODE 3510-22-P